DEPARTMENT OF TRANSPORTATION

Federal Aviation Administration

Notice of Release of Land Affecting Federal Grant Assurance Obligations at California Redwood Coast-Humboldt County Airport, Arcata, Humboldt County, California

AGENCY: Federal Aviation Administration, DOT.

ACTION: Notice of request to release airport land.

SUMMARY: The Federal Aviation Administration (FAA) is considering a proposal and invites public comment to change a portion of the airport from aeronautical use to non-aeronautical use at California Redwood Coast-Humboldt County Airport (ACV), Arcata, Humboldt County, California. The proposal consists of three parcels containing 11.1 acres of airport land, located outside of the airfield, east of Baadsgaard Avenue, northeast of Airport Road and west of Central Avenue.

DATES: Comments must be received on or before September 13, 2021.

ADDRESSES: Comments on the request may be mailed or delivered to the FAA at the following address: Ms. Laurie J. Suttmeier, Manager, San Francisco Airports District Office, Federal Aviation Administration, 1000 Marina Boulevard, Suite 220, Brisbane, California, 94005-1835. In addition, one copy of the comment submitted to the FAA must be mailed or delivered to Mr. Cody Roggatz, C.M., Director of Aviation, County of Humboldt, Department of Aviation, 3561 Boeing Avenue, McKinleyville, California 95519.

SUPPLEMENTARY INFORMATION: The land (5.36-acres of the 11.1-acre parcel) was originally acquired from the federal government as surplus land, via quitclaim deed issued by the War Assets Administration on April 15, 1957. The County in two separate transactions purchased the remaining balance of 5.74-acres from private sellers. The land will be leased for non-aeronautical revenue generation. Such use of the land represents a compatible land use that will not interfere with the airport or its operation, thereby protecting the interests of civil aviation. The airport will be compensated for the fair market value of the use of the land.

In accordance with the Wendell H. Ford Aviation Investment and Reform Act for the 21st Century (AIR 21), Public Law 106-181 (Apr. 5, 2000; 114 Stat. 75), this notice must be published in the Federal Register 30 days before the DOT Secretary may waive any condition imposed on a federally obligated airport by surplus property conveyance deeds or grant agreements.

Issued in El Segundo, California, on August 9, 2021.
Brian Q. Armstrong,
Manager, Safety and Standards Branch, Airports Division, Western-Pacific Region.

[FR Doc. 2021-17258 Filed 8-11-21; 8:45 am]

BILLING CODE 4910-13-P